SOCIAL SECURITY ADMINISTRATION

Agency Information Collection Activities; Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below: (OMB) Office of Management and Budget, Attn: Desk Officer for SSA, Fax: 202-395-6974, E-mail address: OIRA_Submission@omb.eop.gov. (SSA) Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Statement of Agricultural Employer (Year Prior to 1988; and 1988 and later)—20 CFR 404.702, 404.802, 404.1056—0960-0036. The information from forms SSA-1002-F3 and SSA-1003-F3 is used by SSA to resolve discrepancies when farm workers allege their employers did not report their wages, or reported the wages incorrectly. If an agricultural employer has incorrectly reported wages, or failed to report any wages for an employee, SSA must attempt to correct its records by contacting the employer to obtain convincing evidence of the wages paid. The respondents are agricultural employers having knowledge of wages paid to agricultural employees.

Type of Request: Extension of an OMB-approved information collection.

Number of Respondents: 125,000.

Estimated Annual Burden: 62,500 hours.

Form number | Number of respondents | Frequency of response | Average burden per response (minutes) | Total annual burden
SSA-1002 | 75,000 | 1 | 30 | 37,500
SSA-1003 | 50,000 | 1 | 30 | 25,000
Total | 125,000 |  |  | 62,500

2. Medical Report (General)—20 CFR 404.1512-404.1515, 416.912-416.915—0960-0052. SSA, through its agents, the disability determination services, uses form SSA-3826-F4 to collect medical information needed to make disability determinations. The information is used in determining the claimant's physical and mental status prior to making a disability determination, and to document the disability claims folder with the medical evidence. Thus, it provides disability adjudicators and reviewers with a narrative record and history of the alleged disability and with the objective medical findings necessary to make a disability determination. SSA uses the medical evidence provided on this form in making a determination of whether an individual's impairment meets the severity and duration requirements required for disability benefits. The respondents are members of the medical community including individual and hospital physicians, medical records librarians, and other medical sources.

Type of Request: Revision of an OMB-approved information collection.

Number of Respondents: 150,000.

Frequency of Response: 1.

Average Burden Per Response: 30 minutes.

Estimated Annual Burden: 75,000 hours.

3. Request for Correction of Earnings Record—20 CFR 404.820 and 422.125-0960-0029. Form SSA-7008 is used by individual wage earners to request SSA review and, if necessary, correct its master record of their earnings. The respondents are individuals who question SSA's record of their earnings.

Type of Request: Extension of an OMB-approved information collection.

Number of Respondents: 375,000.

Frequency of Response: 1.

Average Burden Per Response: 10 minutes.

Estimated Annual Burden: 62,500 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Statement for Determining Continuing Eligibility for Supplemental Security Income Payments—Adult, Form SSA-3988; Statement for Determining Continuing Eligibility for Supplemental Security Income Payments—Child, Form SSA-3989—20 CFR Subpart B—416.204—0960-0643. Forms SSA-3988 and SSA-3989 will be used to determine whether Supplemental Security Income (SSI) recipients have met and continue to meet all statutory and regulatory non-medical requirements for SSI eligibility, and whether they have been and are still receiving the correct payment amount. The SSA-3988 and SSA-3989 are designed as self-help forms that will be mailed to recipients or to their representative payees for completion and return to SSA. The respondents are recipients of SSI payments or their representatives.

Type of Request: Revision to an existing OMB-approved information collection.

Collection instrument | Number of respondents | Frequency of response | Average burden per response (minutes) | Estimated annual burden (hours)
SSA-3988 | 30,000 | 1 | 26 | 13,000
SSA-3989 | 30,000 | 1 | 26 | 13,000
Totals | 60,000 |  |  | 26,000

2. eData Registration/Account Modification—20 CFR 401.45—0960-NEW.

Collection Background

Section 5 U.S.C. 552a, (e) (10) of the Privacy Act of 1974 requires agencies to establish appropriate administrative, technical, and physical safeguards to ensure the security and confidentiality of records. Also, Section (f) (2) & (3) requires agencies to establish requirements for identifying an individual who requests a record or information pertaining to that individual and to establish procedures for disclosure of personal information. SSA promulgated Privacy Act rules in the Code of Federal Regulations, Subpart B. Procedures for verifying identity are at 20 CFR 401.45.

Collection Description

The eData Services Web site allows various external organizations to submit files to a variety of SSA systems and in some cases receive return files. The users include state/local government agencies, other federal agencies, and some nongovernmental business entities. The SSA systems that process data transferred via eData include, but are not limited to, systems responsible for disability processing and benefit determination or termination. The information collected on form SSA-118 (Government to Government Services Online Web site Registration Form) to register organizations is used exclusively to maintain the identity of the requester within eData. The requestor is already a known entity to a sponsor within SSA. The SSA sponsor collects the information on the registration form and submits it for internal processing. Once this is completed, SSA provides the requestor with their new password and conducts a walkthrough of the eData Web site as necessary. The organization also can make modifications to their online account (e.g., address change) by completing an online form, SSA-119 (Government to Government Service Online Web site Account Modification/Deletion Form).

Type of Request: Collection in use without OMB Control Number.

Collection instrument | Number of respondents | Frequency of response | Average burden per response (minutes) | Estimated annual burden (hours)
SSA-118 | 925 | 1 | 15 | 231
SSA-119 | 1,575 | 1 | 15 | 394
Totals | 2,500 |  |  | 625

3. Certificate of Election for Reduced Widow(er)'s Benefits—20 CFR, Subpart D, 404.335—0960-NEW. Section 202(q) of the Social Security Act provides for the authority to reduce benefits under certain conditions when elected by a beneficiary. However, reduced benefits are not payable to an already entitled spouse (or divorced spouse) who:

• Is at least age 62 and under full retirement age in the month of the number holder's death; and

• Is receiving both reduced spouse's (or divorced spouse's) benefits and either retirement or disability benefits in the month before the month of the number holder's death.

In order to elect reduced widow(er) benefits, a beneficiary must complete form SSA-4111. SSA uses the information collected on form SSA-4111 to determine eligibility for and pay a qualified dually entitled widow(er) (or surviving divorced spouse) reduced benefits. The respondents are qualified dually entitled widow(er) (or surviving divorced spouse) who elects to receive a reduced widow(er) benefit.

Type of Request: Collection in use without OMB Control Number.

Number of Respondents: 30,000.

Frequency of Response: 1.

Average Burden Per Response: 2 minutes.

Estimated Annual Burden: 1,000 hours.

4. Work History Report—20 CFR 404.1512 and 416.912— 0960-0578. The information collected by form SSA-3369 is needed to determine disability by the State Disability Determination Services (DDS). The information will be used to document an individual's past work history. The respondents are applicants for Supplemental Security Income (SSI) disability payments and Social Security disability benefits.

Type of Request: Extension of an OMB-approved information collection.

Collection method | Number of respondents | Frequency of response | Average burden per response (hours) | Estimated annual burden (hours)
SSA-3369 (Paper form) | 21,000 | 1 | 1 | 21,000
EDCS 3369 | 428,500 | 1 | 1 | 428,500
Totals | 449,500 |  |  | 449,500

SSA published a 60-day notice on March 15, 2007 at 72 FR 12244 and a 30-day notice on May 9, 2007 at 72 FR 26443. We are publishing a correction to these notices, reducing the number of respondents from 1,000,000 and correcting the average burden per response from 30 minutes.

Dated: July 17, 2007.
Elizabeth A. Davidson,
Reports Clearance Officer, Social Security Administration.

[FR Doc. E7-14147 Filed 7-23-07; 8:45 am]

BILLING CODE 4191-02-P